DEPARTMENT OF AGRICULTURE

Rural Utilities Service

7 CFR Parts 1728 and 1755

Standards and Specifications for Timber Products Acceptable for Use by Rural Utilities Service Electric and Telecommunications Borrowers; Correction

AGENCY: Rural Utilities Service, USDA.

ACTION: Final rule; correction.

SUMMARY: The Rural Utilities Service published a final rule in the Federal Register on June 24, 2011, which amended its regulations on Electric and Telecommunications Standards and Specifications for Materials, Equipment and Construction, by codifying specifications for wood poles, stubs and anchor logs, wood crossarms (solid and laminated), transmission timbers and pole keys, and for quality control and inspection of timber products. The Agency also updated these specifications to conform with revisions to the American Wood Preservers' Association (AWPA) standards and follow agency policy on insurance requirements. The document inadvertently published incorrect percentages that would require rejection or re-inspection of the entire lot of poles. This document corrects these errors.

DATES: The correction is effective May 18, 2012.

FOR FURTHER INFORMATION CONTACT: Requests for additional information should be directed to Mr. H. Robert Lash, Transmission Branch, Electric Staff Division, Rural Utilities Service, U.S. Department of Agriculture, Room 1246, STOP 1569, 1400 Independence Ave. SW., Washington, DC 20250-1569; telephone: (202) 720-0486, or, email: Bob.Lash@wdc.usda.gov.

SUPPLEMENTARY INFORMATION:

Need for Correction

As published, the final rule describes in detail the responsibilities and procedures pertaining to the quality control for crossarms as specified in 7 CFR 1728.202. In this section, RUS inadvertenly requires a 5 percent rejection or re-inspection of the entire lot of poles. The Agency is correcting this percentage inaccuracy in §§ 1728.202(f)(3)(i)(B), 1728.202(f)(3)(i)(C) and 1728.202(f)(3)(ii)(A) by replacing it with a 15 percent rejection or re-inspection of the entire lot of poles. The correct percentage of 15 appeared in the proposed rule and the Agency did not receive any adverse comments regarding it.

List of Subjects in 7 CFR Parts 1728 and 1755

7 CFR Part 1728

Electric power, Incorporation by reference, Loan programs—energy, Reporting and recordkeeping requirements, Rural areas.

7 CFR Part 1755

Incorporation by reference, Loan programs—communications, Reporting and recordkeeping requirements, Rural areas, Telephone.

For reasons set forth in the preamble, chapter XVII of title 7 of the Code of Federal Regulations, is amended as follows:

PART 1728—ELECTRIC STANDARDS AND SPECIFICATIONS FOR MATERIALS AND CONSTRUCTION

1. The authority citation for part 1728 continues to read as follows:

Authority: 7 U.S.C. 901 et seq.; 1921 et seq., 6941 et seq.

2. In § 1728.202, revise paragraphs (f)(3)(i)(B), (f)(3)(i)(C), and (f)(3)(ii)(A) to read as follows:

§ 1728.202 Bulletin 1728H-702, Specification for Quality Control and Inspection of Timber Products.

* * * * *

(f) * * *

(3) * * *

(i) * * *

(B) Re-treat the charge if more than 15 percent of the borings are found to be nonconforming.

(C) Re-treat all nonconforming poles if 15 percent or fewer fail the requirement.

(ii) * * *

(A) For Group B poles 45 feet and shorter, bore each pole and re-treat only those found to be nonconforming, unless more than 15 percent fail; in that case, re-treat the entire lot.

* * * * *

Dated: May 9, 2012.
Jonathan Adelstein,
Administrator, Rural Utilities Service.

[FR Doc. 2012-12025 Filed 5-17-12; 8:45 am]

BILLING CODE P